DEPARTMENT OF ENERGY

Federal Energy Regulatory Commission

[Docket No. IC22-2-000]

Commission Information Collection Activities (FERC-519) Comment Request; Extension

AGENCY: Federal Energy Regulatory Commission.

ACTION: Notice of information collection and request for comments.

SUMMARY: In compliance with the requirements of the Paperwork Reduction Act of 1995, the Federal Energy Regulatory Commission (Commission FERC-519, (Application under Federal Power Act Section 203), which will be submitted to the Office of Management and Budget (OMB) for review.

DATES: Comments on the collection of information are due March 9, 2022.

ADDRESSES: Send written comments on FERC-519 to OMB through www.reginfo.gov/public/do/PRAMain. Attention: Federal Energy Regulatory Commission Desk Officer. Please identify the OMB Control Number (1902-0082) in the subject line of your comments. Comments should be sent within 30 days of publication of this notice to www.reginfo.gov/public/do/PRAMain.

Please submit copies of your comments to the Commission. You may submit copies of your comments (identified by Docket No. IC22-2-000) by one of the following methods: Electronic filing through http://www.ferc.gov, is preferred.

• Electronic Filing: Documents must be filed in acceptable native applications and print-to-PDF, but not in scanned or picture format.

• For those unable to file electronically, comments may be filed by USPS mail or by hand (including courier) delivery.

○ Mail via U.S. Postal Service Only: Addressed to: Federal Energy Regulatory Commission, Secretary of the Commission, 888 First Street NE, Washington, DC 20426.

○ Hand (including courier) delivery: Deliver to: Federal Energy Regulatory Commission, 12225 Wilkins Avenue, Rockville, MD 20852.

Instructions: OMB submissions must be formatted and filed in accordance with submission guidelines at www.reginfo.gov/public/do/PRAMain. Using the search function under the “Currently Under Review” field, select Federal Energy Regulatory Commission; click “submit,” and select “comment” to the right of the subject collection.

FERC submissions must be formatted and filed in accordance with submission guidelines at: http://www.ferc.gov. For user assistance, contact FERC Online Support by email at ferconlinesupport@ferc.gov, or by phone at: (866) 208-3676 (toll-free).

Docket: Users interested in receiving automatic notification of activity in this docket or in viewing/downloading comments and issuances in this docket may do so at https://www.ferc.gov/ferc-online/overview.

FOR FURTHER INFORMATION CONTACT: Ellen Brown may be reached by email at DataClearance@FERC.gov, telephone at (202) 502-8663.

SUPPLEMENTARY INFORMATION:

Title: FERC-519, Application under Federal Power Act Section 203.¹

¹ 16 U.S.C. 824b.

OMB Control No.: 1902-0082.

Type of Request: Three-year extension of the FERC-519 information collection requirements with no changes to the current reporting requirements. The Commission issued a 60-day notice on November 15, 2021 (86 FR 63010) requesting public comments; no comments were received.

Abstract: The Commission requires that public utility officers must seek authorization under amended section 203(a)(1)(B) of the Federal Power Act (FPA) to merge or consolidate, directly or indirectly, its facilities subject to the jurisdiction of the Commission, or any part thereof, with the facilities of any other person, or any part thereof, that are subject to the jurisdiction of the Commission and have a value in excess of $10 million, by any means whatsoever. In addition, as required by the Act, the Commission establishes a requirement to submit a notification filing for mergers or consolidations by a public utility if the facilities to be acquired have a value in excess of $1 million and such public utility is not required to secure Commission authorization under amended section 203(a)(1)(B). The information collected under the FERC-519 enables the Commission to meet its statutory responsibilities regarding public utility disposition, merger, consolidation of facilities, purchase, or acquisition oversight and enforcement in accordance with the FPA as referenced above. The required information includes descriptions of corporate attributes of the party or parties to the proposed transaction (e.g., a sale, lease, or other disposition, merger, or consolidation of facilities, or purchase of other acquisition of the securities of a public utility and the facilities or other property involved in the transaction), statements about effect of the transaction, and the applicant's proof that the transaction will be consistent with the public interest. It will enable the Commission to meet its statutory responsibilities regarding its FPA section 203 oversight of public utility dispositions, mergers, or consolidation of facilities, and associated oversight and enforcement responsibilities under the FPA as referenced above. The required information to be collected in the notification filing (established by the addition of 18 CFR part 33.12) for certain transactions includes descriptions of corporate attributes of the party or parties to the transaction and the facilities involved. FPA section 203 requires a filing on the occasion that a public utility proposes to dispose of jurisdictional facilities, merge such facilities, or acquire the securities of another public utility. Public Utilities consist of:

• Corporate;

• Information Technology Management;

• General Accounting;

• Personnel and Payroll;

• Transportation;

• Tariffs and Rates;

• Insurance;

• Operations and Maintenance;

• Plant and Depreciation;

• Purchase and Stores;

• Revenue Accounting and Collection;

• Tax;

• Treasury; and

• Miscellaneous.

Type of Respondents: Public utility officers regulated by the FPA.

Estimate of Annual Burden: ² The Commission estimates the total annual burden and cost ³ for this information collection as follows:

² “Burden” is the total time, effort, or financial resources expended by persons to generate, maintain, retain, or disclose or provide information to or for a Federal agency. For further explanation of what is included in the information collection burden, refer to Title 5 Code of Federal Regulations 1320.3.

³ Commission staff estimates that the industry's skill set and cost (for wages and benefits) for FERC-519 are approximately the same as the Commission's average cost. The FERC 2021 average salary plus benefits for one FERC full-time equivalent (FTE) is $180,703/year (or $87.00/hour).

FERC-519: Application Under Federal Power Act Section 203
| Number of respondents | Annual number of responses per respondent | Total number of responses | Average burden & cost per response | Total annual burden hours (total annual cost) | Cost per respondent ($)
| (1) | (2) | (1) * (2) = (3) | (4) | (3) * (4) = (5) | (5) ÷ (1)
FERC-519 (FPA Section 203 Filings) ⁴ | 134 | 1 | 134 | 324.43 hr.⁵; $28,225.41 | 43,473.62 hrs.; $3,782,204.94 | $28,225.41

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

⁴ Commission staff estimates that approximately 26 section 203 filings will change from full section 203 filings to the notification filing described above and will take one burden hour to complete. The number of respondents and responses is based on Commission staff's estimate that 13 percent of the approximately 200 section 203 filings received will be affected. This represents a significant reduction in burden hours.

⁵ With this amendment each of the 26 affected entities and their related filings (i.e., the entities that now only have to file the section 203 notification filings) is reduced to 1 hour.

Dated: February 1, 2022.
Kimberly D. Bose,
Secretary.

[FR Doc. 2022-02504 Filed 2-4-22; 8:45 am]

BILLING CODE 6717-01-P